ENVIRONMENTAL PROTECTION AGENCY

[FRL-9921-06-Region 3]

Tentative Approval and Solicitation of Request for a Public Hearing for Public Water System Supervision Program Revision for the Commonwealth of Pennsylvania

AGENCY: Environmental Protection Agency.

ACTION: Notice of tentative approval and solicitation of requests for a public hearing.

SUMMARY: Notice is hereby given in accordance with the provision of Section 1413 of the Safe Drinking Water Act, as amended, and the requirements governing the National Primary Drinking Water Regulations Implementation, 40 CFR part 142, that the Commonwealth of Pennsylvania is revising its approved Public Water System Supervision Program. The Commonwealth has adopted the Lead and Copper Rule Short Term Revisions which will provide for better public health protection by reducing potential reproductive and developmental health risks from lead. The Commonwealth also revised its regulations for issuing variances and exemptions. The Environmental Protection Agency (EPA) has determined that these revisions are no less stringent than the corresponding Federal regulations. EPA is taking action to tentatively approve these program revisions. All interested parties are invited to submit written comments on this determination and may request a public hearing.

DATES: Comments or a request for a public hearing must be submitted by January 29, 2015. This determination shall become effective on January 29, 2015 if no timely and appropriate request for a hearing is received and the Regional Administrator does not elect on his own to hold a hearing, and if no comments are received which cause EPA to modify its tentative approval.

ADDRESSES: Comments or a request for a public hearing must be submitted to the U.S. Environmental Protection Agency Region III, 1650 Arch Street, Philadelphia, PA 19103-2029. Comments may also be submitted electronically to Moran.Kelly@epa.gov. All documents relating to this determination are available for inspection between the hours of 8:00 a.m. and 4:30 p.m., Monday through Friday, at the following offices:

• Drinking Water Branch (3WP21), Water Protection Division, U.S. Environmental Protection Agency Region III, 1650 Arch Street, Philadelphia, PA 19103-2029.

• Bureau of Safe Drinking Water, Pennsylvania Department of Environmental Protection, 11th Floor Rachel Carson State Office Building, 400 Market Street, Harrisburg, PA 17101.

FOR FURTHER INFORMATION CONTACT: Kelly Moran at the Philadelphia address given above, telephone (215) 814-2331, fax (215) 814-2302, or email Moran.Kelly@epa.gov.

SUPPLEMENTARY INFORMATION: All interested parties are invited to submit written comments on this determination and may request a public hearing. All comments will be considered; if necessary, EPA will issue a response. Frivolous or insubstantial requests for a hearing may be denied by the Regional Administrator. However, if a substantial request for a public hearing is made by January 29, 2015, a public hearing will be held. A request for public hearing shall include the following: (1) The name, address, and telephone number of the individual, organization, or other entity requesting a hearing; (2) a brief statement of the requesting person's interest in the Regional Administrator's determination and of information that the requesting person intends to submit at such a hearing; and (3) the signature of the individual making the request; or, if the request is made on behalf of an organization or other entity, the signature of a responsible official of the organization or other entity.

Dated: December 3, 2014.
Shawn M. Garvin,
Regional Administrator, EPA, Region III.

[FR Doc. 2014-30601 Filed 12-29-14; 8:45 am]

BILLING CODE 6560-50-P